ENVIRONMENTAL PROTECTION AGENCY

[FRL-8505-5]

Underground Injection Control Program, Hazardous Waste Injection Restrictions; Petition for Exemption—Class I Hazardous Waste Injection; Solutia, Inc.

AGENCY: Environmental Protection Agency.

ACTION: Notice of final decisions on no migration petition reissuances.

SUMMARY: Notice is hereby given that exemptions to the land disposal restrictions under the 1984 Hazardous and Solid Waste Amendments to the Resource Conservation and Recovery Act have been granted to Solutia, Inc, Chocolate Bayou Facility (Solutia) for two Class I injection wells located at Alvin, Texas. As required by 40 CFR Part 148, the company has adequately demonstrated to the satisfaction of the Environmental Protection Agency by the petitions and supporting documentation that, to a reasonable degree of certainty, there will be no migration of hazardous constituents from the injection zone for as long as the waste remains hazardous. These final decisions allow the underground injection by Solutia, of the specific restricted hazardous wastes identified in these exemptions, into Class I hazardous waste injection wells Nos. WDW-13 and WDW-318 at the Chocolate Bayou, Alvin, Texas facility, until December 31, 2020, unless EPA moves to terminate these exemptions under provisions of 40 CFR 148.24. Additional conditions included in these final decisions may be reviewed by contacting the Region 6 Ground Water/UIC Section. As required by 40 CFR 148.22(b) and 124.10, a public notice was issued October 15, 2007. The public comment period closed on November 29, 2007. No comments were received. These decisions constitute final Agency action and there is no Administrative appeal. These decisions may be reviewed/appealed in compliance with the Administrative Procedure Act.

DATES: These actions are effective as of December 4, 2007.

ADDRESSES: Copies of the petitions and all pertinent information relating thereto are on file at the following location:

Environmental Protection Agency, Region 6, Water Quality Protection Division, Source Water Protection Branch (6WQ-S), 1445 Ross Avenue, Dallas, Texas 75202-2733.

FOR FURTHER INFORMATION CONTACT: Philip Dellinger, Chief Ground Water/UIC Section, EPA—Region 6, telephone (214) 665-7150.

Dated: December 4, 2007.
William K. Honker,
Acting Division Director, Water Quality Protection Division (6WQ).

[FR Doc. E7-24173 Filed 12-12-07; 8:45 am]

BILLING CODE 6560-50-P